SOCIAL SECURITY ADMINISTRATION

Privacy Act of 1974, as Amended; Proposed Amended Routine Use Disclosure

AGENCY: Social Security Administration (SSA).

ACTION: Amended routine use.

SUMMARY: In accordance with the Privacy Act (5 U.S.C. 552a(e)(11)), we are issuing public notice of our intent to amend a routine use applicable to SSA's system of records entitled, Master Files of Social Security Number (SSN) Holders and SSN Applications, 60-0058. On August 6, 2004, we published a notice of routine use in the Federal Register that allows SSA to verify the last 4 digits of the SSN for State voter registration purposes under section 205(r)(8) of the Social Security Act (42 U.S.C. 405(r)(8)). We are now proposing to amend that routine use to allow SSA to verify the full SSNs for certain States that are permitted to use the full SSN for State voter registration purposes under section 303(a)(5)(D) of the Help America Vote Act of 2002 (42 U.S.C. 15483(a)(5)(D)). The proposed amended routine use disclosure is discussed in the Supplementary Information section below. We invite public comment on this proposal.

DATES: We filed a report of the amended routine use disclosure with the Chairman of the Senate Committee on Governmental Affairs, the Chairman of the House Government Reform Committee, and the Director, Office of Information and Regulatory Affairs, Office of Management and Budget (OMB) on October 26, 2004. The proposed routine use will become effective on December 6, 2004, unless we receive comments warranting it not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Carlotta B. Davis, Social Insurance Specialist, Disclosure Policy Team, Office of Public Disclosure, Office of the General Counsel, Social Security Administration, in Room 3-C-2 Operations Building, 6401 Security Boulevard, Baltimore, Maryland 21235-6401, e-mail address at Carlotta.Davis@ssa.gov or by telephone at (410) 965-8028.

SUPPLEMENTARY INFORMATION:

I. Background and Purpose of the Amended Routine Use Disclosure

A. General Background

On August 6, 2004, we published a notice in the Federal Register (FR) announcing the establishment of a new routine use that would allow SSA to verify the last four digits of the SSN for State voter registration for elections for Federal office, in accordance with the provisions in section 205(r)(8) of the Social Security Act (42 U.S.C. 405(r)(8)), as added by section 303 of the Help America Vote Act of 2002 (HAVA). The routine use became effective on September 5, 2004, and is applicable to the Privacy Act system of records entitled Master Files of Social Security Number (SSN) Holders and SSN Applications, 60-0058. The routine use is numbered 41 in the notice of the system of records. (See 69 FR 47976, 8/6/04.) We established the routine use to implement the provisions of section 205(r)(8) of the Social Security Act. These provisions require the Commissioner of Social Security to enter into agreements with State officials for the purpose of verifying the following information about voter registrant applicants for whom the last four digits of a SSN are provided instead of a driver's license number:

• Name (including the first name and any family forename or surname),

• Date of birth (DOB) (including the month, day and year), and

• The last four digits of the Social Security number (SSN)).

B. Proposed Amended Routine Use Disclosure of Data Maintained in the Master Files of Social Security Number (SSN) Holders and SSN Applications, 60-0058

Section 303(a)(5)(D) of HAVA (42 U.S.C. 15483(a)(5)(D)) also allows those States that have historically collected SSNs for voter registration purposes, in accordance with section 7 of the Privacy Act (5 U.S.C. 552a note), to verify the full SSN instead of the last four digits of the SSN for State voter registration for elections for Federal office. Accordingly, those States that collected the SSN in accordance with the provisions of section 7 of the Privacy Act may request SSA to verify the full SSN of their voter registrant applicants as allowed by section 303(a)(5)(D) of HAVA. We therefore are amending the routine use we published in the FR on August 6, 2004, to allow these verifications. The amended routine use, numbered 41, provides for the following disclosure:

To the State and Territory Motor Vehicle Administration officials (or agents or contractors on their behalf) and State and Territory chief election officials under the provisions of section 205(r)(8) of the Social Security Act (42 U.S.C. 405(r)(8)) to verify the accuracy of information provided by the State agency with respect to applications for voter registration for those individuals who do not have a driver's license number:

• For whom the last four digits of the Social Security number are provided, or

• For whom the full Social Security number is provided in accordance with section 7 of the Privacy Act (5 U.S.C. 552a note), as described in section 303(a)(5)(D) of the Help America Vote Act of 2002 (42 U.S.C. 15483(a)(5)(D)).

We are not republishing the notice of this system of records in its entirety at this time. This system of records was last published in its entirety in the FR at 63 FR 14165, 3/24/98.

As noted in the FR publication of the routine use on August 6, 2004, the verification process will involve the American Association of Motor Vehicle Administrators (AAMVA), State motor vehicle agencies (MVA), and SSA. Under this process, State MVAs will input voter registrants' names, dates of birth, and either the last four digits of the SSNs or, where permissible, the full SSN into AAMVA's AAMVAnet system, which in turn will forward the information to SSA for matching with SSA records. After matching the input data with data in SSA records, SSA will return one response code indicating results of the verification, including whether death information is recorded in SSA records, as appropriate.

II. Compatibility of Proposed Routine Use

The Privacy Act (5 U.S.C. 552a(a)(7) and (b)(3)) and SSA's disclosure regulation (20 CFR Part 401) permit us to disclose information under a published routine use for a purpose that is compatible with the purpose for which we collected the information. Section 401.150(c) of the regulations permits us to disclose information under a routine use, where necessary, to carry out SSA programs or assist other agencies in administering similar programs. Section 401.120 of the regulations provides that we will disclose information if required by law. Section 205(r)(8) of the Social Security Act requires the Commissioner of Social Security to verify applicable information to be used by States and territories in their voter registration processes for elections held for Federal office. Thus, the proposed routine use is appropriate and meets the relevant statutory and regulatory criteria.

III. Effect of the Amended Routine Use Disclosure on the Rights of Individuals

The routine use amendment will allow SSA to verify the full SSN for those States allowed to use the full SSN for voter registration for elections for Federal office, in accordance with the provisions of section 303(a)(5)(D) of the HAVA. Section 205(r)(8) of the Social Security Act provides that information furnished by the Commissioner of Social Security, under agreements with the States and territories, is confidential and use of the information is limited to the purpose of verifying voter registrants' information as provided in the agreements. This statute also provides that any officer or employee or former officer or employee of a State, or any officer or employee or former officer or employee of a contractor of a State who, without written authority of the Commissioner, publishes or communicates any information in the individual's possession by reason of such employment or position as such an officer, shall be guilty of a felony and, upon conviction, shall be fined or imprisoned, or both, as described in section 208 of the Social Security Act. Additionally, we will adhere to all applicable provisions of the Privacy Act when disclosing information. Thus, we do not anticipate that the proposed new routine use will have any unwarranted adverse effect on the rights of individuals about whom data will be disclosed.

Dated: October 21, 2004.
Jo Anne B. Barnhart,
Commissioner.

[FR Doc. 04-24314 Filed 10-29-04; 8:45 am]

BILLING CODE 4191-02-P